DEPARTMENT OF COMMERCE

Census Bureau

Proposed Information Collection; Comment Request; 2016 Government Units Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 1, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Joy P. Pierson by email at Joy.P.Pierson@census.gov and Elizabeth Accetta at Elizabeth.Accetta@census.gov.

SUPPLEMENTARY INFORMATION:

I. Abstract

This request is for extension of a currently approved information collection.

Title 13, Section 161 of the United States Code requires the Secretary of Commerce to conduct a Census of Governments every five years, in years ending in “2” and “7”. Section 193 provides for the collection of preliminary and supplementary statistics as related to the main topic of the census. The Census of Governments publishes unit counts and legal descriptions as well as employment and finance data for all county, municipal, township, school district, and special district governments in the United States. Prior to conducting the Census of Governments it is necessary to ensure that the universe of all governments is as accurate and up to date as possible. The Government Units Survey (GUS) is conducted the year prior to the Census of Governments, and is used to evaluate and update the universe of all local and special district governments. The 2016 Government Units Survey (GUS) is the instrument for collecting current information to update the universe of all county, municipal, township, and special district governments for the 2017 Census of Governments. The 2016 GUS provides critical information needed to maintain the frame from which all public sector surveys are drawn. The GUS is particularly beneficial for identifying smaller units that have not been included in surveys in between census years and identifying changes to the universe of special district governments that experience substantial change in a five-year period. The GUS contributes to the quality and timely releases of the other components of the Census of Governments.

The 2016 GUS will differ slightly from the former version of the Government Units Survey. The 2016 GUS is significantly shorter than the past version of the GUS. The 2016 GUS estimated time to respond is 15 minutes, compared to the 2011 GUS which had an estimated time to respond of 45 minutes. The 2016 GUS is designed to diminish unnecessary burden to respondents, and to collect information essential to maintaining the government universe.

The 2016 GUS will collect basic background information on all local, general purpose, and special district governments. The most basic information collected will include whether a government is still in existence. As previously noted, there are a number of governments, particularly special district governments, which have not been part of any survey or collection since the 2012 Census of Governments. It is necessary to determine if such governments are still in existence. The 2016 GUS asks a follow-up question for those governments no longer in existence to provide, if applicable, contact information for a newly created or existing entity that may be providing the services or functions of the former government. It is necessary to verify and update all this information in the universe prior to the 2017 Census of Governments.

The 2016 GUS asks all existing governments for contact information, including a mailing address and, if applicable, Web site address. This information is used to verify what currently exists in the universe and update any discrepancies. The contact information will be used when mailing the 2017 Census of Governments as well as for any public sector surveys conducted over the next five years.

The 2016 GUS also asks questions on employment and defined-contribution plans, defined-benefit, and post-employment healthcare plans of governments. Specific, detailed questions on defined-benefit plans and defined-contribution plans are important to determine which plans are in scope for current and future public sector surveys the Census Bureau conducts. A Remarks section allows respondents to provide any additional insight that may be helpful to improve the universe of local and special district governments.

II. Method of Collection

The 2016 Government Units Survey is a census of all counties, municipalities, townships, and special districts. Respondents have the option of responding by paper, via the Internet, by telephone, or by facsimile. An advance notification informing respondents of the impending arrival of the Government Units Survey will be mailed two weeks prior to mailing the questionnaire. The Government Units Survey questionnaire will be mailed to respondents in February 2016 followed by a reminder letter a month later, and a follow-up mailing in April 2016. The 2016 Government Units Survey questionnaire will provide a Web site for respondents who choose to respond electronically. The Web site is secure and respondents will receive a unique user identification and password, which will be included in a letter accompanying the questionnaire. A toll free number will also be provided to respondents on the questionnaire which respondents may use to ask questions or to provide responses. A telephone number and instructions to respond to the 2016 GUS by facsimile will be provided upon request to respondents.

III. Data

OMB Control Number: 0607-0930.

Form Number(s): GUS-1.

Type of Review: Regular (extension of a currently approved information collection).

Affected Public: Public sector entities consisting of local, general purpose, and special district governments.

Estimated Number of Respondents: Approximately 77,000.

Estimated Time per Response: 15 minutes.

Estimated Total Annual Burden Hours: 19,250.

Estimated Total Annual Cost to Public: $0 in recordkeeping/reporting costs.

Respondent's Obligation: Voluntary.

Legal Authority: Title 13 U.S.C. Sections 161 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2015.
Sarah Brabson,
NOAA PRA Clearance Officer, submitting for Census.

[FR Doc. 2015-07433 Filed 3-31-15; 8:45 am]

BILLING CODE 3510-07-P